FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than January 3, 2023.

A. Federal Reserve Bank of Kansas City (Jeffrey Imgarten, Assistant Vice President) 1 Memorial Drive, Kansas City, Missouri, 64198:

1. The FEATAN Revocable Trust, Thomas A. Holt as trustee and as trustee of the FNB 401(k) Employee Stock Ownership Plan; the Heather A. Eklund Living Trust, Heather A. Eklund as trustee; the Raymond A. Holt Revocable Trust, Raymond A. Holt, trustee, all of Buffalo, Wyoming; the Holt Family Trust, Denise A. Holt, as trustee, Ranchester, Wyoming; and Robert Holt and Lori Holt, both of Littleton, Colorado; to become members of the Holt Family Group, a group acting in concert, to retain voting shares of First National Buffalo Bankshares, Inc., and thereby indirectly retain voting shares of First Northern Bank of Wyoming, both of Buffalo, Wyoming, and First State Bank of Newcastle, Newcastle, Wyoming.

B. Federal Reserve Bank of San Francisco (Joseph Cuenco, Assistant Vice President) Financial Institution Formations, Transactions & Enforcement, 101 Market Street, San Francisco, California 94105:

1. Lee Andrew Adams, Kennewick, Washington; to acquire additional voting shares of Coeur d'Alene Bancorp, Inc., and thereby indirectly acquire voting shares of Bankcda, both of Coeur D'Alene, Idaho.

Board of Governors of the Federal Reserve System.
Michele Taylor Fennell,
Deputy Associate Secretary of the Board.

[FR Doc. 2022-27339 Filed 12-15-22; 8:45 am]

BILLING CODE P